ENVIRONMENTAL PROTECTION AGENCY

40 CFR Parts 3, 51, 60, 63, 70, 123, 142, 145, 162, 233, 257, 258, 271, 281, 403, 501, 745, and 763

[FRL-7090-9]

RIN 2025-AA07

Public Hearings on the Proposed Establishment of Electronic Reporting; Electronic Records Rule

AGENCY: Environmental Protection Agency (EPA).

ACTION: Proposed rule; public hearings.

SUMMARY: This document announces dates and locations for two public hearings EPA is holding to take comments on the Agency's proposed rule for establishment of electronic reporting and electronic records, published on August 31, 2001. These public hearings are being held during the ninety-day public comment period for the proposed rule, which ends on November 29, 2001. The meeting will be structured by topics as follows: 9:30-10:00 a.m.—Welcome and Introduction; 10:00-11:00 a.m.—General Requirements for Electronic Reporting/Electronic Signature; 11:00 a.m.-12:30 p.m.—EPA's Electronic Reporting System: “The Central Data Exchange”; 1:30-4:00 p.m.—Electronic Recordkeeping Requirements; and 4:00-5:30 p.m.—Criteria for State Electronic Reporting and Recordkeeping Programs.

DATES: The hearings will be held on:

1. Monday, October 29, 2001, 9:30 a.m. to 5:30 p.m. (EST);

2. Friday, November 9, 2001, 9:30 a.m. to 5:30 p.m. (CST).

ADDRESSES: The hearings will be held at:

1. The U.S. EPA Auditorium at 401 M Street, SW., Washington, DC;

2. The Ralph H. Metcalfe Federal Building, 3rd Floor, 77 West Jackson Blvd., Chicago, IL.

FOR FURTHER INFORMATION CONTACT: David Schwarz (2823), Office of Environmental Information, U.S. Environmental Protection Agency, 1200 Pennsylvania Avenue NW., Washington, DC 20460, (202) 260-2710, schwarz.david@epa.gov, or Evi Huffer (2823), Office of Environmental Information, U.S. Environmental Protection Agency, 1200 Pennsylvania Avenue NW., Washington, DC, 20460, (202) 260-8791, huffer.evi@epa.gov.

SUPPLEMENTARY INFORMATION: EPA published its proposed rule for Establishment of Electronic Reporting; Electronic Records in the Federal Register on August 31, 2001 (66 FR 46162-46195). EPA proposes to allow electronic reporting and electronic recordkeeping under the environmental regulations in Title 40 of the Code of Federal Regulations. It proposes to remove regulatory obstacles to electronic reporting and recordkeeping and sets forth the conditions for the submission of electronic documents or maintenance of electronic records in lieu of paper documents or records. EPA is proposing the rule, in part, under the authority of the Government Paperwork Elimination Act (GPEA) of 1998, Public Law 105-277.

The proposed rule is available electronically on the Internet at http://www.epa.gov/fedrgstr/EPA-GENERAL/2001/August/Day-31/g21810.htm. The proposed rule and supporting materials are also available for viewing in the Enforcement and Compliance Docket and Information Center, located at 1200 Pennsylvania Avenue, NW., (Ariel Rios Building), 2nd Floor, Room 2213, Washington, DC 20460. The documents are available for viewing from 9 a.m. to 4 p.m., Monday through Friday, excluding federal holidays. To review docket materials, it is recommended that the public make an appointment by calling (202) 564-2614 or (202) 564-2119.

Dated: October 18, 2001.
Janette Petersen,
Acting Director, Collection Services Division, Office of Information Collection, Office of Environmental Information.

[FR Doc. 01-27059 Filed 10-23-01; 4:21 pm]

BILLING CODE 6560-50-P